DEPARTMENT OF TRANSPORTATION

Federal Highway Administration

Environmental Impact Statement; Skowhegan Transportation Study; Skowhegan and Madison, Somerset County, MA

AGENCY: Federal Highway Administration (FHWA), DOT.

ACTION: Notice of intent.

SUMMARY: The FHWA is issuing this notice to advise the public that an Environmental Impact Statement (EIS) will be prepared for a proposed highway project in the Towns of Skowhegan and Madison, Maine.

FOR FURTHER INFORMATION CONTACT: Mark Hasselmann, Right of Way and Environmental Programs Manager, Maine Division, Federal Highway Administration, 40 Western Ave., Augusta, Maine 04330, Tel. 207/622-8350, Ext. 101; Raymond Faucher, Project Manager, Maine Department of Transportation, State House Station 16, Augusta, Maine 04333-0016, Tel. 207/624-3300.

SUPPLEMENTARY INFORMATION: On October 14, 2005, FHWA Maine Division informed MaineDOT that they had completed their review of the NEPA process to date for the Skowhegan Transportation Study and decided that an Environmental Impact Statement will be required before location and design approval. The principal reason for this decision is the public controversy that has been generated late in the NEPA process regarding proposed highway alignments.

The FHWA, in cooperation with the Maine Department of Transportation, will prepare an EIS to evaluate transportation alternatives to enhance mobility, safety, and accessibility through and around Skowhegan. The EIS will examine both new highway alignments and infrastructure improvements. The EIS will study corridor alternatives, including upgrades within existing highway corridors, corridors on new location, and the no-build alternative. The area under consideration extends from Route 2/201A west of the Town of Skowhegan easterly and northerly around Skowhegan and then westerly to Route 201 in Madison just north of Skowhegan. The length of the corridor is approximately 6.5 miles. Goals for the study include: (1) Improving safety and relieving congestion on U.S. Routes 2 and 201, and State Routes 104 and 150, (2) improving regional east-west and north-south traffic flow, (3) improving emergency cross-river access and response capabilities, and (4) providing the capacity to meet current and future traffic demands. The work completed to date in the Skowhegan Transportation Study will provide the foundation for the EIS analysis.

This project was initiated as a transportation planning study in 1998, with agency scoping and coordination initiated at interagency meetings in that year and the intent to prepare a NEPA document. Public participation was also initiated in 1998 with the formation of a Public Advisory Committee, a July 28 public scoping meeting, and the development of a study purpose and need. A wide range of alternatives was developed and evaluated. Preparation of an Environmental Assessment began in March of 2002. In July of 2005, Alternative E3E received a preliminary determination from the Army Corps of Engineers that it is the Least Environmentally Damaging Practicable Alternative (LEDPA).

Letters describing the proposed action and soliciting comments will be sent to appropriate Federal, State and local agencies and private organizations that have previously expressed or are known to have interest in the proposed action. All public and agency comments, including early scoping comments, received during the NEPA process will be addressed in the EIS. The draft EIS will be available for public and agency review and comment prior to a public hearing. To ensure that the full range of issues related to this proposed action are addressed and all significant issues identified, comments and suggestions are invited from all interested parties. Comments or questions concerning this proposed action and the EIS should be directed to the FHWA and/or MaineDOT at the addresses provided above.

FHWA anticipates that the following Federal approvals will be necessary for the proposed project.

Section 404 Clean Water Act permit

Design, Right of Way, and Construction Funding Authorization

Authority: 23 U.S.C. 315; 49 CFR 1.48.

(Catalog of Federal Domestic Assistance Program Number 20.205, Highway Planning and Construction. The regulations implementing Executive Order 12372 regarding intergovernmental consultation on Federal programs and activities apply to this program.)
Issued on: November 17, 2005.
Jonathan McDade,
Division Administrator, Federal Highway Administration, Augusta, Maine.

[FR Doc. 05-23415 Filed 11-28-05; 8:45 am]

BILLING CODE 4910-22-M